NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: Research Performance Progress Report.

OMB Approval Number: 3145-0221.

Expiration Date of Approval: July 30, 2022.

Type of Request: Intent to seek approval to extend an information collection for three years.

Use of the Information:

NSF developed the RPPR as a service within Research.gov. The service provides a common portal for the research community to manage and submit annual project reports to the National Science Foundation (NSF) and to partner agencies. This service replaced NSF's annual and interim project reporting capabilities which resided in the FastLane System.

Complete information about NSF's implementation of the Research Performance Progress Report (RPPR) may be found at the following website: http://www.nsf.gov/bfa/dias/policy/rppr/index.jsp.

Burden on the Public: The Foundation estimates that an average of 6.6 hours is expended for each report submitted. An estimated 120,000 reports are expected during the course of one year for a total of 30,000 public burden hours annually.

Dated: July 25, 2022.
Suzanne H. Plimpton,
Reports Clearance Officer, National Science Foundation.

[FR Doc. 2022-16173 Filed 7-27-22; 8:45 am]

BILLING CODE 7555-01-P